DEPARTMENT OF AGRICULTURE

Forest Service

Notice of Extension of Public Comment Period for Outfitting and Guiding Land Use Fees in the Alaska Region

AGENCY: Forest Service, USDA.

ACTION: Notice of extension of the public comment period.

SUMMARY: The Alaska Region of the Forest Service is extending the public comment period an additional 90 days for the notice of proposed policy published in the Federal Register September 15, 2006 (FR Vol. 71, No. 179, pp. 54454-54464) concerning a long term flat fee policy for outfitters and guides operating in the Alaska Region. The original notice provided for a comment period to end on December 14, 2007. The Forest Service is extending the comment period until March 14, 2007.Under the flat fee policy, a single land use fee would be charged for each type of service provided by outfitters and guides in the Alaska Region.

DATES: Comments must be received in writing by March 14, 2007.

ADDRESSES: Send comment to Regional Forester, Attention: Recreation, Lands and Minerals, P.O. Box 21628, Juneau, Alaska 99802-1628; via electronic mail to comments-alaska-regional-office@fs.fed.us; or via facsimile to (907) 586-7866. The public is not required to send duplicate comments via regular mail when submitting by e-mail. Please confine written comments to issues pertinent to the proposed fee policy. All comments, including names and addresses when provided, will be placed in the record and will be available for public inspection and copying. The public may inspect comments received on this proposed policy in the Recreation, Lands and Minerals Staff, Room 519D, Federal Office Building, 709 West 9th Street, Juneau, Alaska, between 9 a.m. and 4 p.m. business days. Those wishing to inspect comments are encouraged to call ahead to facilitate meeting with the Forest Service.

FOR FURTHER INFORMATION CONTACT: Trish Clabaugh, (907) 586-8855, or Neil Hagadorn, (907) 586-9336.

SUPPLEMENTARY INFORMATION: Comments received to date and those submitted until March 14, 2007 will provide the public with an opportunity to review and comment on the notice of proposed policy.

Dated: November 30, 2006.
Dennis E. Bschor,
Regional Forester, Alaska Region.

[FR Doc. 06-9655 Filed 12-12-06; 8:45 am]

BILLING CODE 3410-11-M